OFFICE OF MANAGEMENT AND BUDGET

Agency Information Collection Under Review by the Office of Management and Budget

AGENCY: Office of Management and Budget, Executive Office of the President.

ACTION: Notice of submission for OMB review, Comment request.

SUMMARY: The Office of Management and Budget (OMB) has submitted an information collection to the Office of Information and Regulatory Affairs (OIRA) for review under provisions of the Paperwork Reduction Act of 1995 (Pub. L. 104-13). The form (SF-LLL) is required by 31 U.S.C. 1352. No comments were received in response to OMB's earlier Federal Register notice (June 19, 2000, 65 FR 38005). OMB is not proposing any changes to the SF-LLL.

DATES: Submit comments on or before October 12, 2000.

ADDRESSES: Comments should be addressed to: Ed Springer, Desk Officer, OIRA, OMB, 725 17th Street NW, Room 10236, New Executive Office Building, Washington, DC 20503. Comments may be submitted via E-mail (espringer@omb.eop.gov), but must be made in the text of the message and not as an attachment.

FOR FURTHER INFORMATION CONTACT: F. James Charney, Office of Federal Financial Management, OMB, (202) 395-3993. The SF-LLL can be downloaded from OMB's home page (http://www.whitehouse.gov/omb), under the heading “Grants Management.”

SUPPLEMENTARY INFORMATION: OMB Control No.: 0348-0046.

Title: Disclosure of Lobbying Activities.

Form No: SF-LLL.

Type of Review: Reinstatement, without change, of a previously approved collection for which approval has expired.

Respondents: States, Local Governments, Non-Profit organizations.

Number of Responses: 300.

Estimated Time Per Response: 10 minutes.

Needs and Uses: The SF-LLL is the standard disclosure reporting form for lobbying paid for with non-Federal funds, as required by the Byrd Amendment, as amended by the Lobbying Disclosure Act of 1995.

Issued in Washington, DC.
Joshua Gotbaum,
Controller.

[FR Doc. 00-23279 Filed 9-11-00; 8:45 am]

BILLING CODE 3110-01-P